DEPARTMENT OF HEALTH AND HUMAN SERVICES

Centers for Disease Control and Prevention

[30DAY-21-02]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: Survey to Assess Hepatitis B Vaccination Coverage Among U.S. Health-Care Workers—New—National Center for Infectious Diseases (NCID), Centers for Disease Control and Prevention (CDC). Since 1982, CDC has recommended hepatitis B vaccination of health-care workers who perform tasks that place them at risk for exposure to blood or other potentially infectious materials that may contain hepatitis B virus. Data from 1997 indicated that approximately 65% of U.S. health-care workers had received the hepatitis B vaccine.

Increasing national hepatitis B vaccination coverage among health-care workers to 98% has been included as a goal in the Healthy People 2010 initiative published by the National Center for Health Statistics. A cross-sectional survey has been developed to assess hepatitis B vaccination coverage levels among health-care workers in the United States. The proposed survey will provide data that can be used to assess progress towards achieving the 2010 goal. This survey will also provide data on facility-based hepatitis B vaccination policies and procedures that may affect vaccine coverage levels. The results of the project will assist the Division of Viral Hepatitis, National Center for Infectious Diseases, in the prevention and control of hepatitis B among health-care workers. There are no costs to respondents. The total annualized estimated burden is 2,656 hours.

Form name | Number of respondents | Number of responses per respondent | Average burden per response (in hours)
Facility survey form | 425 | 1 | 30/60
Medical record abstraction form | 425 | 25 | 15/60

Dated: April 10, 2002.
Nancy E. Cheal,
Acting Deputy Director for Policy, Planning and Evaluation, Centers for Disease Control and Prevention.

[FR Doc. 02-9381 Filed 4-17-02; 8:45 am]

BILLING CODE 4163-18-P